DEPARTMENT OF ENERGY

Federal Energy Regulatory Commission

[Docket No. CP13-58-000]

National Fuel Gas Supply Corporation; Prior Notice of Activity Under Blanket Certificate

On January 24, 2013, National Fuel Gas Supply Corporation (National Fuel) filed with the Federal Energy Regulatory Commission (Commission) an application under section 7 of the Natural Gas Act and Sections 157.205 and 157.216 of the Commission's regulations for authorization to abandon facilities at its Boone Mountain Storage Field located in Elk County, Pennsylvania. National Fuel seeks authority to plug and abandon Well 4940 and to abandon the associated well line F-W4940. Well 4940 has not contributed to storage field deliverability since 2005, so the abandonment will not affect overall storage field performance.

Questions regarding this application may be directed to David W. Reitz, Deputy General Counsel, National Fuel Gas Supply Corporation, 6363 Main Street, Williamsville, New York 14221, or by calling 716-857-7949.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Protests will be considered by the Commission in determining the appropriate action to be taken, but will not serve to make protestants parties to the proceeding. Any person wishing to become a party must file a notice of intervention or motion to intervene, as appropriate. Such motions or protests must be filed on or before the comment date. Anyone filing a motion to intervene or protest must serve a copy of that document on the Applicant, on or before the comment date. It is not necessary to serve motions to intervene or protests on persons other than the Applicant.

The Commission encourages electronic submission of protests and interventions in lieu of paper using the “eFiling” link at http://www.ferc.gov. Persons unable to file electronically should submit an original and seven copies of the protest or intervention to the Federal Energy Regulatory Commission, 888 First Street NE., Washington, DC 20426.

This filing is accessible on-line at http://www.ferc.gov using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 2, 2013.

Dated: February 1, 2013.
Kimberly D. Bose,
Secretary.

[FR Doc. 2013-02933 Filed 2-8-13; 8:45 am]

BILLING CODE 6717-01-P